DEPARTMENT OF HOUSING AND URBAN DEVELOPMENT

[Docket No. FR-7024-N-47]

30-Day Notice of Proposed Information Collection: Family Self-Sufficiency (FSS) Program; OMB Control No.: 2577-0178

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: December 7, 2020.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on July 30, 2020 at 85 FR 45917.

A. Overview of Information Collection

Title of Information Collection: Family Self-Sufficiency (FSS) Program.

OMB Control Number: 2577-0178.

Type of Request: Revision of currently approved collection.

Agency Form Numbers: HUD-52650, HUD-52651, HUD-52652, HUD-50058, HUD-2880, HUD 52755, SF-424, SF-LLL, HUD-1044.

Description of the Need for the Information and Proposed Use: The FSS program, which was established in the National Affordable Housing Act of 1990, promotes the development of local strategies that coordinate the use of public housing assistance and assistance under the Section 8 rental certificate and voucher programs (now known as the Housing Choice Voucher Program) with public and private resources to enable eligible families to increase earned income and financial literacy, reduce or eliminate the need for welfare assistance, and make progress toward economic independence and self-sufficiency. Public Housing Agencies consult with local officials to develop an Action Plan, enter into a Contract of Participation with each eligible family that opts to participate in the program, compute an escrow credit for the family, report annually to HUD on implementation of the FSS program, and complete a funding application for the salary of an FSS program coordinator. This Revision represents a revision under the current FSS statute. There will be a further revision of this Collection concurrent with the promulgation of new Regulations pursuant to the new FSS statute established as Section 306 of the Economic Growth, Regulatory Relief, and Consumer Protection Act (Pub. L. 115-174) on May 24, 2018.

Respondents (i.e., affected public): Public Housing Agencies, State or Local Governments.

Estimated Annual Reporting and Recordkeeping Burden:

Information collection | Number of respondents | Number of responses per respondents | Total annual responses | Burden hours/minutes per response | Total burden hours
SF424—Application for Federal Assistance | 800 | 1 | 800 | 0 | 0
SF LLL—Disclosure of Lobbying Activities | 40 | 1 | 40 | 0 | 0
HUD-2880—Applicant/Recipient/Disclosure/Update Form (OMB No. 2510-0011) | 800 | 1 | 800 | 0 | 0
HUD-52755—Sample Contract Admin. Partnership Agreement (OMB No. 2577-0229) | 40 | 1 | 40 | 0 | 0
HUD-52651—FSS Application | 800 | 1 | 800 | 1.50 | 1,200
Subtotal (Application) | 800 | 1 | 800 | 1.50 | 1,200
Action Plan | 20 | 1 | 20 | 10 | 200
HUD-52650—Contract of Participation | 900 | 10 | 9,000 | .25 | 2,250
HUD-52652—Escrow Account Credit Worksheet | 740 | 100 | 74,000 | .85 | 62,900
HUD-1044—Grant Agreement * | 700 | 1 | 700 | 0 | 0
Annual Report (Narrative) | 700 | 1 | 700 | 1 | 700
HUD-50058—Family Report (OMB No. 2577-0083) | 740 | 100 | 74,000 | 0 | 0
Subtotal (Program Reporting/Recordkeeping) | 740 | 213 |  | 12.1 | 66,050
Total | 740 | Varies | Varies | Varies | 67,257
* HUD-1044, Award/Amendment is completed by HUD staff, signed by the recipient of the grant, and returned to HUD. This form is a certification and HUD ascribes no burden to its use.

Burden hours for forms showing zero burden hours in this collection are reflected in the OMB approval number cited or do not have a reportable burden.

B. Solicitation of Public Comment

This notice is soliciting comments from members of the pubic and affected parties concerning the collection of information described in Section A on the following:

(1) Whether the proposed collection of information is necessary for the proper performance of the functions of the agency, including whether the information will have practical utility;

(2) The accuracy of the agency's estimate of burden of the proposed collection of information;

(3) Ways to enhance the quality, utility and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology HUD encourages interested parties to submit comment in response to these questions.

C. Authority

Section 3507 of the Paperwork Reduction Act of 1995, 44 U.S.C. Chapter 35.

Colette Pollard,
Department Reports Management Officer, Office of the Chief Information Officer.

[FR Doc. 2020-24640 Filed 11-5-20; 8:45 am]

BILLING CODE 4210-67-P